Title 3—

The President

Proclamation 7926 of September 9, 2005

Minority Enterprise Development Week, 2005

By the President of the United States of America

A Proclamation

Across our country, the entrepreneurial spirit of minority businesses is strong and growing. By creating jobs and advancing opportunities, these businesses improve lives and transform neighborhoods throughout our Nation. During Minority Enterprise Development Week, we recognize minority entrepreneurs and their employees for their commitment to free enterprise and equal opportunity.

Minority businesses are an essential part of a society in which personal initiative is encouraged and in which opportunity is within the reach of all of our citizens. Significant increases in minority business ownership are providing an engine for economic growth and helping more of our citizens succeed. By fueling job creation and providing goods and services to consumers, these businesses are helping to lift communities and provide hope.

In order to extend the promise of our country to all of our citizens, our economy must continue to grow and expand. My Administration is working to keep taxes low, protect small businesses from needless regulation and frivolous lawsuits, and reduce global trade barriers to open up new markets for American entrepreneurs. We have provided new market tax credits to boost investment and community development in low-income areas, and we are working to stimulate and support minority businesses by providing training and mentoring.

Minority businesses help ensure that our country is a land of opportunity. Their example reflects the best qualities of America, demonstrating that every person has the opportunity to strive for a better future and to take part in the promise of our great Nation.

NOW, THEREFORE, I, GEORGE W. BUSH, President of the United States of America, by virtue of the authority vested in me by the Constitution and laws of the United States, do hereby proclaim September 11 through September 17, 2005, as Minority Enterprise Development Week. I call upon all Americans to celebrate this week with appropriate programs, ceremonies, and activities to recognize the important contributions of our Nation's minority enterprises.

IN WITNESS WHEREOF, I have hereunto set my hand this ninth day of September, in the year of our Lord two thousand five, and of the Independence of the United States of America the two hundred and thirtieth.

B

[FR Doc. 05-18367

Filed 9-13-05; 8:45 am]

Billing code 3195-01-P